DEPARTMENT OF THE INTERIOR

Bureau of Land Management

[CO-100-1610-DU]

Notice of Intent To Amend the Little Snake Resource Management Plan for Acquisition and Management of Emerald Mountain

AGENCY: Bureau of Land Management, Interior.

ACTION: Notice of intent.

SUMMARY: This document provides notice that the Bureau of Land Management (BLM) will initiate a plan amendment to address acquisition and management of lands in Routt County, Colorado. The lands would be acquired in a proposed land exchange between the State of Colorado (Colorado State Land Board) and the United States (Little Snake Field Office, BLM).

DATES: All relevant public meetings will be announced through the local news media, newsletters, and the BLM Web site at: http://www.co.blm.gov/lsra/lsraindex.htm, at least 15 days prior to the event. The minutes and list of attendees from each meeting will be available in the Field Office and at the Web site, and will be open for 30 days after a meeting to any participant who wishes to clarify the views they expressed.

ADDRESSES: Please send written comments to the Bureau of Land Management, Little Snake Field Office, Attn: Emerald Mountain Land Use Amendment, 455 Emerson Street, Craig, CO 81625-1129; FAX: (970) 826-5002. Email comments may be sent to Duane_Johnson@co.blm.gov.

FOR FURTHER INFORMATION CONTACT: For further information and/or to have your name added to the mailing list, contact Duane Johnson, Team Leader, at the Little Snake Field Office (LSFO) address listed below or by calling (970) 826-5001.

SUPPLEMENTARY INFORMATION: The proposed land exchange involves 129 public land parcels totaling approximately 15,621 acres and one 6,347 acre parcel of State land called Emerald Mountain. The proposed land exchange would result in BLM acquiring new Federal land and disposing of scattered Federal lands. The parcel to be acquired is currently not under BLM management, and an amendment of the current Resource Management Plan (RMP) is required to address acquisition and future management of the parcel by BLM. As part of the RMP amendment, an Environmental Assessment (EA) will be prepared to analyze and compare the impacts of the management alternatives for the acquired lands. As provided by 43 CFR 1610.5-5, the BLM will prepare the plan amendment and associated EA simultaneously with the processing of the Notice of Exchange Proposal (NOEP). The plan will be amended in conformity with the National Environmental Policy Act (NEPA), the Federal Land Policy and Management Act (FLPMA), and BLM management policies. The BLM will ask state and local governments to be cooperators on the plan amendment. BLM will work with interested parties to identify the management decisions that are best suited to local, regional, and national needs. The public scoping process will identify planning issues and planning criteria. The BLM will prepare the land management amendment through coordination with other federal, state and local agencies, and affected users of BLM managed lands. The BLM will hold public meetings during the plan scoping period. Early participation is encouraged and will help determine the future management decisions of the BLM-administered lands involved in this amendment. Comments on issues and concerns can be submitted in writing to the address listed above and will be accepted throughout the creation of the Draft RMP amendment/EA. In addition to the ongoing public participation process, the BLM will provide formal opportunities for public participation by conducting scheduled public meetings and requesting comments upon BLM's publication of the draft RMP amendment/EA. The BLM will notify the Governor of Colorado, the Routt County Commissioners, adjacent landowners, and potentially affected members of the public of the proposed management decisions. The Emerald Mountain Partnership has promoted the exchange. The Emerald Mountain Partnership is a non-profit group dedicated to the conservation of the natural resources of Emerald Mountain and surrounding lands and to the creation of a multi-use model of land use to ensure the compatibility of agriculture, wildlife, recreation, and education. A notice of exchange proposal (NEOP) will be prepared, published in local news media, and mailed to interested parties. Anyone wishing to obtain a copy of the NOEP may request one from the LSFO contact listed above.

Documents pertinent to this proposal may be examined at the LSFO and Web site at: http://www.co.blm.gov/lsra/emerald_mtn/em.html. Comments, including names and street addresses of respondents, will be available for public review at the LSFO during regular business hours (7:45 a.m. to 4:30 p.m.) Monday through Friday, except holidays; and may be published as part of the EA. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be available for public inspection in their entirety.

Preliminary issues and management concerns have been identified by BLM personnel, other agencies, and in meetings with the Emerald Mountain Partnership, the Routt County Commissioners, and user groups. They represent the BLM's knowledge to date on the existing issues and concerns with current management. The preliminary issues include: impacts to users of BLM-administered lands and adjacent private landowners; impacts to wildlife habitat; and impacts to water quality, vegetation, including riparian and wetland areas, soils, and recreation opportunities on Emerald Mountain. These issues, along with others that may be identified through public participation, will be considered in the planning process. After gathering public comments on what issues the plan amendment should address, the suggested issues will be placed in one of the three categories:

1. Issues to be resolved in the plan amendment;

2. Issues resolved through policy or administrative action; or

3. Issues beyond the scope of the plan amendment.

Rationale will be provided in the plan for each issue placed in category two or three. In addition to these major issues, a number of management questions and concerns will be addressed in the plan amendment. The public is encouraged to help identify these questions and concerns during the scoping phase.

An interdisciplinary approach will be used to develop the plan amendment in order to consider the variety of resource issues and concerns identified. Disciplines involved in the planning process will include specialists with expertise in rangeland management, minerals and geology, forestry, outdoor recreation, law enforcement, cultural resources, wildlife and fisheries, lands and realty, hydrology, soils, vegetation, and fire.

(Authority: 43 CFR 1610.2(c) and (f)).

John E. Husband,
Field Manager.

[FR Doc. 05-1591 Filed 1-27-05; 8:45 am]

BILLING CODE 4310-JB-P